DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by January 15, 2025 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Animal and Plant Health Inspection Service

Title: On Farm Monitoring of Antimicrobial Use and Resistance in U.S. Broiler Production.

OMB Control Number: 0579-0481.

Summary of Collection: 7 U.S.C. 391, the Animal Industry Act of 1884, directs USDA to collect and disseminate animal health data and information. 7 U.S.C. 8308 of the Animal Health Protection Act, “Detection, Control, and Eradication of Diseases and Pests,” May 13, 2002, further directs USDA to examine and report on animal disease control methods. APHIS's mission is to protect and improve American agriculture's productivity and competitiveness. Realizing this mission relies, in large part, on collecting, analyzing, and disseminating livestock and poultry health information.

APHIS is making this submission to continue the National Animal Health Monitoring System's (NAHMS') On-farm Monitoring of Antimicrobial Use and Resistance in U.S. Broiler Production study. This study is an information collection conducted by APHIS through a cooperative agreement with the University of Minnesota. This longitudinal study monitors U.S. broiler chicken operations for antimicrobial use (AMU), antimicrobial resistance (AMR), animal health and production practices, and the relationship between them and changes over time.

Need and Use of the Information: This study provides U.S. poultry producers and animal health professionals information about the relationship between AMU, AMR, animal health and production, and changes in each over time. This information is essential for effectively responding to the global health threat posed to animals and humans of increasing antimicrobial resistance. APHIS uses the forms NAHMS 470 and NAHMS 471 to collect the information for the study. Without this survey, APHIS will have limited information by which to make decisions related to AMU and AMR as they relate to the U.S. poultry industry.

Description of Respondents: Businesses or other for-profits.

Number of Respondents: 30.

Frequency of Responses: Reporting; On occasion; Quarterly.

Total Burden Hours: 869.

Rachelle Ragland-Greene,
Departmental Information Collection Clearance Officer.

[FR Doc. 2024-29509 Filed 12-13-24; 8:45 am]

BILLING CODE 3410-34-P